DEPARTMENT OF JUSTICE

Notice of Lodging of Proposed Consent Decree Under the Comprehensive Environmental Response, Compensation, and Liability Act

On September 29, 2023 the Department of Justice lodged a proposed Consent Decree with the United States District Court for the District of Utah in the lawsuit entitled United States v. Smith and Edwards Company, et al., Civil Action No.1:23-cv-00108-HCN.

The United States filed this lawsuit under section 107(a) of the Comprehensive Environmental Response, Compensation, and Liability Act of 1980 (“CERCLA”), as amended, 42 U.S.C. 9607, for the recovery of costs incurred or to be incurred by the United States in response to the release or threatened release of hazardous substances at the Ogden Swift Building Superfund Site located in Ogden, Utah (the “Site”). The proposed complaint and consent decree seek to recover, under section 107(a) of CERCLA, EPA's unreimbursed response costs in connection with an emergency removal action at the Ogden Swift Building Superfund Site in Ogden, Utah. The proposed Consent Decree resolves all claims in the proposed Complaint against two potentially responsible parties, Smith and Edwards (“S&E”) and the Ogden City Redevelopment Agency (“RDA”) (collectively, the “Defendants”), as well as a potential counterclaim against the Settling Federal Agencies (comprised of the Defense Logistics Agency, DLA Disposition Services, the Department of the Army, the Department of the Navy and the Department of the Air Force).

Under the proposed Consent Decree, S&E will pay $2,290,065 and RDA will pay $300,000. The Settling Federal Agencies will pay $2,290,065 to resolve a potential counterclaim against the United States. Together, these amounts represent approximately 96% of EPA's unreimbursed response costs through June 2022.The publication of this notice opens a period for public comment on the Consent Decree. Comments should be addressed to the Assistant Attorney General, Environment and Natural Resources Division, and should refer to United States v. Smith and Edwards Company, et al., D.J. Ref. No. 90-11-3-12449. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. We will provide a paper copy of the Consent Decree upon written request and payment of reproduction costs. Please mail your request and payment to:

Consent Decree Library, U.S. DOJ—ENRD, P.O. Box 7611, Washington, DC 20044-7611.

Please enclose a check or money order for $8.25 (25 cents per page reproduction cost) payable to the United States Treasury.

Jeffrey Sands,
Assistant Section Chief, Environmental Enforcement Section, Environment and Natural Resources Division.

[FR Doc. 2023-22344 Filed 10-6-23; 8:45 am]

BILLING CODE 4410-15-P